FEDERAL RESERVE SYSTEM

Change in Bank Control Notices; Acquisitions of Shares of a Bank or Bank Holding Company

The notificants listed below have applied under the Change in Bank Control Act (12 U.S.C. 1817(j)) and section 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 5, 2015.

A. Federal Reserve Bank of Dallas (Robert L. Triplett III, Senior Vice President) 2200 North Pearl Street, Dallas, Texas 75201-2272:

1. James F. Kemp, Karen Sybil Kemp, Cynthia Susan Kemp, Keith Keller, Marjorie Keller, Stacy Lynn Loth, Kory Allen Keller, Mark Durst, Kay Keller Durst, and Daniel Wesley Kemp, all of Fredericksburg, Texas; Brian Daniel Kemp, San Marcos, Texas; Stephanie Ann Igle, San Angelo, Texas; Kristy Kay LeJeune, College Station, Texas; Kimberly Durst Bonnen, Friendswood, Texas; Kathleen Keller, Hye, Texas; and James L. Hayne, San Antonio, Texas, as trustee of the James L. Hayne, Ranch Trust of 2001 and Roxana C. Hayne, Ranch Trust of 2001; collectively, to retain voting shares of Security Holding Company, and thereby indirectly retain voting shares of Security State Bank & Trust, both in Fredericksburg, Texas.

Board of Governors of the Federal Reserve System, April 15, 2015.
Michael J. Lewandowski,
Associate Secretary of the Board.

[FR Doc. 2015-09020 Filed 4-20-15; 8:45 am]

BILLING CODE 6210-01-P